DEPARTMENT OF TRANSPORTATION

Federal Aviation Administration

14 CFR Part 71

[Docket No. FAA-2024-2443; Airspace Docket No. 24-AWP-87]

RIN 2120-AA66

Modification of Class D Airspace; Torrance Airport, Torrance, CA

AGENCY: Federal Aviation Administration (FAA), DOT.

ACTION: Final rule.

SUMMARY: This action modifies the Class D airspace at Torrance Airport, Torrance, CA. This action will more appropriately contain instrument flight rules (IFR) and visual flight rules (VFR) operations at the airport. Additionally, the airport's name and legal description is modified to match the FAA's database.

DATES: Effective date 0901 UTC, June 12, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Keith T. Adams, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Class D airspace to support IFR and VFR operations at Torrance Airport, Torrance, CA.

History

The FAA published a notice of proposed rulemaking for Docket No. FAA 2024-2443 in the Federal Register (89 FR 92871; November 25, 2024), proposing to amend the Class D airspace at Torrance Airport, Torrance, CA. Interested parties were invited to participate in this rulemaking effort by submitting written comments on the proposal to the FAA. No comments were received.

Differences From the NPRM

The FAA is amending a text issued from a notice of proposed rulemaking action Docket No. FAA 2024-2443 in the Federal Register (89 FR 92871; November 25, 2024), pertaining to the airport's name change. The airport's name will be amended to Zamperini Field.

Incorporation by Reference

Class D airspace areas are published in paragraph 5000 of FAA Order JO 7400.11, Airspace Designations and Reporting Points, which is incorporated by reference in 14 CFR 71.1 on an annual basis. This document amends the current version of that order, FAA Order JO 7400.11J, dated July 31, 2024 and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This action amends 14 CFR part 71 by modifying Class D airspace at Zamperini Field, Torrance, CA, to support VFR and the containment of IFR operations.

The Class D airspace is modified to within a 3-mile radius between the airport's 003° bearing clockwise to the 086° bearing, and within 1.9 miles northeast and 2.1 miles southwest of the airport's 124° bearing extending 4.2 miles southeast, and within 2.1 miles southwest and 2.2 miles northeast of the airport's 304° bearing extending 4.5 miles northwest, and within 4 miles northwest of the airport's 025° bearing extending 2.8 miles northeast. The Class D airspace extends upward from the surface up to and including 2,400 feet. This rule-making action for the airport will more appropriately contain IFR arrival operations descending from 1,000 feet above the surface and departing IFR operations until reaching 700 feet above the surface or the next adjacent controlled airspace.

Additionally, the FAA made administrative amendments to Torrance Airport's legal description. The airport's name is amended from Torrance Airport to Zamperini Field. The airport's reference point geographic coordinates is amended from lat. 33°48′12″ N, long. 118°20′22″ W to lat. 33°48′12″ N, long. 118°20′23″ W. Lastly, the part-time language for the Class D airspace is updated to replace the outdated terms Notice to Airmen with Notice to Air Missions, and Airport/Facility Directory with Chart Supplement. The Los Angeles very high frequency omnidirectional range tactical air navigation (VORTAC) is removed from the airport's legal description. The Los Angeles VORTAC and Zamperini Field's localizer are no longer needed for describing the airport's Class D airspace area boundaries. The Class D airspace description will be derived from the Zamperini Fields's airport reference point.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

AWP D Torrance, CA [Amended]

Zamperini Field, CA

(Lat. 33°48′12″ N, long. 118°20′23″ W)

That airspace extending upward from the surface up to and including 2,400 feet MSL within a 3-mile radius between the airport's 003° bearing clockwise to the 086° bearing, and within 1.9 miles northeast and 2.1 miles southwest of the airport's 124° bearing extending 4.2 miles southeast, and within 2.1 miles southwest and 2.2 miles northeast of the airport's 304° bearing extending 4.5 miles northwest, and within 4 miles northwest of the airport's 025° bearing extending 2.8 miles northeast. This Class D airspace area is effective during the specific dates and times established in advance by a Notice to Air Missions. The effective date and time will thereafter be continuously published in the Chart Supplement.

* * * * *

Issued in Des Moines, Washington, on February 11, 2025.
B.G. Chew,
Group Manager, Operations Support Group, Western Service Center.

[FR Doc. 2025-02698 Filed 2-14-25; 8:45 am]

BILLING CODE 4910-13-P